DEPARTMENT OF HEALTH AND HUMAN SERVICES

Administration for Strategic Preparedness and Response

Request for Information on Hospital Preparedness Program Funding Formula

AGENCY: Administration for Strategic Preparedness and Response (ASPR), U.S. Department of Health and Human Services (HHS).

ACTION: Notice.

SUMMARY: In accordance with section 319C-2 of the Public Health Service (PHS) Act, the Administration for Strategic Preparedness and Response (ASPR) distributes Hospital Preparedness Program (HPP) cooperative agreement funding to recipients using a statutorily required formula. ASPR is seeking comment on the risk component of the HPP funding formula to inform potential future changes to the formula.

DATES: Comments on this notice must be received by December 20, 2024. ASPR will not reply individually to responders but will consider all comments submitted by the deadline.

ADDRESSES: Please submit all responses to the following email address: HPP@hhs.gov.

FOR FURTHER INFORMATION CONTACT: Jennifer Hannah, Director, Office of Health Care Readiness (OHCR) via Jennifer.Hannah@hhs.gov or call: 202-245-0722.

SUPPLEMENTARY INFORMATION: HPP is a cooperative agreement program that, through its support for health care coalitions, prepares the nation's health care delivery system to save lives during emergencies that exceed the day-to-day capacity of health care and emergency response systems. HPP is the primary source of federal funding for health care preparedness and response. HPP provides funding to 62 recipients, including the governments of all 50 states, eight U.S. territories and freely associated states, the District of Columbia, Chicago, New York City, and Los Angeles County. For the purposes of this Request for Information (RFI), “the health care delivery system” refers to all organizations and persons whose mission is to promote, restore, optimize, or maintain health.

Section 319C-2 of the PHS Act requires ASPR to distribute HPP funding based on the following factors: a required base amount determined by the HHS Secretary, a required adjustment based on population, and an amount based on significant unmet need and degree of risk.

The risk component accounts for health care risks and hazards capable of creating a surge for the U.S. health care delivery system. ASPR calculates the health care surge-specific risk component using publicly available national datasets to account for three subcomponents:

1. Threat, or the likelihood of a particular threat event occurring, quantified by the number of events occurring within a recipient's jurisdiction (e.g., the “flood” threat parameter is comprised of the number of flooding events occurring within a recipient's jurisdiction).

2. Vulnerability, or a community's or communities' access to health care services and surge capacity (or lack thereof), quantified by proportion-based public health metrics (e.g., the “health care access” vulnerability parameter is comprised of the number of staffed hospital beds per capita by recipient).

3. Consequence, or the potential negative impacts associated with a particular threat/hazard occurring, quantified by the historic number of casualties per event associated with each threat/hazard (e.g., the “flood” consequence parameter captures the expected number of casualties associated with a flooding event).

Information Requested

Please reference the tables found at https://aspr.hhs.gov/HealthCareReadiness/HPP/Pages/rfi.aspx to answer the following questions.

(1) What, if any, feedback do you have regarding the current datasets? For example, are there any current datasets you recommend retiring? Please specify why and if you would recommend any replacements.

(2) What, if any, additional datasets would you recommend including in the risk calculation? Please specify the data source and associated risk subcomponent (i.e., threat, vulnerability, consequence). You may recommend adding one of the “potential datasets” included in the tables found at https://aspr.hhs.gov/HealthCareReadiness/HPP/Pages/rfi.aspx and/or suggest new datasets for consideration.

(3) What, if any, additional considerations would you recommend including in the calculation of risk (e.g., threats that are not included in the current datasets)? Please also include datasets that can be used to measure these factors.

You may address as many or as few questions as you choose. You may provide additional feedback relevant to the HPP funding formula. When responding, please identify the corresponding question. Datasets used for the risk calculation must be national in scope and either publicly available or readily available to the federal government.

This RFI is for planning purposes only and should not be construed as a policy, solicitation for applications, or as an obligation on the part of the government to provide support for any ideas in response to it. ASPR will use the information submitted in response to this RFI at its discretion and will not provide comments to any of your submissions. The government is under no obligation to acknowledge receipt of the information received or provide feedback with respect to any information submitted. No proprietary, classified, confidential, or sensitive information should be included in a response. The contents of all submissions may be made available to the public in the future. Submitted materials should therefore be publicly available or be able to be made public.

The Administrator and Assistant Secretary for Preparedness and Response of ASPR, Dawn O'Connell, having reviewed and approved this document, authorizes Adam DeVore, who is the Federal Register liaison, to electronically sign this document for purposes of publication in the Federal Register.

Adam DeVore,
Federal Register Liaison, Administration for Strategic Preparedness and Response.

[FR Doc. 2024-28740 Filed 12-5-24; 8:45 am]

BILLING CODE 4150-37-P